LEGAL SERVICES CORPORATION

Program Letters 02-2, State Planning and the Reconfiguration Process, and 02-3, State Planning Configuration Standards

AGENCY: Legal Services Corporation.

ACTION: Notice of Issuance of Program Letters 02-2, State Planning and the Reconfiguration Process, and 02-3, State Planning Configuration Standards.

SUMMARY: LSC is providing notice of the issuance of two new Program Letters relating to State Planning. These Program Letters have been sent to each LSC grant recipient. The Programs Letters are publicly available on the LSC Web site at: http://www.lsc.gov/FOIA/foia_pl.htm.

FOR FURTHER INFORMATION CONTACT: Randi Youells, Vice President for Programs, Legal Services Corporation, 750 First Street, NE., Washington, DC 20002-4250; 202/336-7269 (phone); youellsr@lsc.gov.

SUPPLEMENTARY INFORMATION: LSC is issuing this notice to advise the public of the issuance of two Program Letters relating to State Planning. Specifically, LSC has issued Program Letter 02-2, State Planning and the Reconfiguration Process and Program Letter 02-3, State Planning Configuration Standards.

Program Letter 02-2, State Planning and the Reconfiguration Process

On November 17, 2001, the LSC Board of Directors adopted the Report of the LSC Task Force to Study and Report on Configuration of Service Areas. The Board action codifies LSC's standards for reconfiguration of service areas and amends LSC's review process for configuration decisions, previously contained in Program Letter 01-4. Program Letter 02-2 implements the review process outlined in the Report adopted by the Board. The new reconfiguration review process is based on the premise that while the LSC President, as LSC's Chief Executive Officer, should be knowledgeable about state planning, he/she should be sufficiently removed from the particulars of decision making in a given state so that he/she retains the ability to render a final decision on service area configuration that is impartial and based upon his or her independent review of the relevant materials. It also more clearly provides that the LSC Vice-President and President shall provide written notice of the reasons for their decisions. Finally, it would give some limited participation in the review process to stakeholders who may not be part of the designated state planning body (DSPB).

Program Letter 02-3, State Planning Configuration Standards

On November 17, 2001, the LSC Board of Directors adopted the Report of the LSC Task Force to Study and Report on Configuration of Service Areas. The Board action codifies LSC's standards for reconfiguration of service areas and amends LSC's review process for configuration decisions. Program Letter 02-3 formally adopts the configuration standards adopted by the LSC Board. Under these guidelines, LSC will exercise its statutory responsibility to insure that grants and contracts are made so as to provide the most economical and effective delivery of legal assistance to persons in both urban and rural areas.

These Program Letters have been sent to each LSC grant recipient. The Programs Letters are publicly available on the LSC Web site at: http://www.lsc.gov/FOIA/foia_pl.htm, or may be requested by contacting Ms. Youells as noted above.

Victor M. Fortuno,
General Counsel and Vice President for Legal Affairs.

[FR Doc. 02-4693 Filed 2-27-02; 8:45 am]

BILLING CODE 7050-01-P